DEPARTMENT OF HEALTH AND HUMAN SERVICES

Substance Abuse and Mental Health Services Administration

Center for Substance Abuse Treatment; Notice of Meeting

Pursuant to Public Law 92-463, notice is hereby given that the Substance Abuse and Mental Health Services Administration's (SAMHSA) Center for Substance Abuse Treatment (CSAT) National Advisory Council (NAC) will meet on April 25, 2023, 9 a.m.-4:30 p.m. (EDT).

The meeting is open to the public and will include consideration of minutes from the SAMHSA CSAT NAC meeting of August 30, 2022, a discussion with SAMHSA leadership, a discussion on Hepatitis C Elimination, a discussion on recent policy changes impacting substance use disorder care, including sections 1262 and 1263 of the Consolidated Appropriations Act of 2023 (commonly known as the Mainstreaming Addiction Treatment (MAT) and Medication Access and Training Expansion (MATE) Act provisions, respectively), and a discussion on Low Barrier Models for Medication for Opioid Use Disorder (MOUD). It will also cover updates on CSAT activities from the Office of the Director (OD); the Division of Pharmacologic Therapies (DPT); the Division of States and Community Systems (DSCS); the Division of Services Improvement (DSI); Office of Program Analysis and Coordination (OPAC); Office of Performance Analysis and Management (OPAM).

The meeting will be held at SAMHSA, 5600 Fishers Lane, 5E49, Rockville, MD 20857. Attendance by the public will be limited to space available and will be limited to the open sessions of the meeting. Interested persons may present data, information, or views, orally or in writing, on issues pending before the Council. Presentations from the public will be scheduled at the conclusion of the meeting. Individuals interested in making oral presentations must notify the contact person, Tracy Goss, CSAT NAC Designated Federal Officer (DFO) on or before April 14, 2023. Up two minutes will be allotted for each public comment as time permits. Written comments received in advance of the meeting will be considered for inclusion in the official record.

The open meeting session may also be accessed virtually. Please register on-line at https://snacregister.samhsa.gov, to attend on either on site or virtually, submit written or brief oral comments, or request special accommodations for persons with disabilities. To communicate with the CSAT NAC DFO please see the contract information below.

Meeting information and a roster of Council members may be obtained by accessing the SAMHSA Committee website at https://www.samhsa.gov/about-us/advisory-councils/csat-national-advisory-council, or by contacting the DFO.

Council Name: SAMHSA's Center for Substance Abuse Treatment, National Advisory Council.

Date/Time/Type: April 25, 9:00 a.m.-4:30 p.m. EDT, Open.

Place: SAMHSA, 5600 Fishers Lane, Rockville, Maryland 20857.

Contact: Tracy Goss, Designated Federal Officer, CSAT National Advisory Council, 5600 Fishers Lane, Rockville, Maryland 20857 (mail), Telephone: (240) 276-0759, Email: tracy.goss@samhsa.hhs.gov.

Dated: March 6, 2023.
Carlos Castillo,
Committee Management Officer, SAMHSA.

[FR Doc. 2023-04887 Filed 3-9-23; 8:45 am]

BILLING CODE 4162-20-P